DEPARTMENT OF ENERGY

Federal Energy Regulatory Commission

Combined Notice of Filings

Take notice that the Commission has received the following Natural Gas Pipeline Rate and Refund Report filings:

Docket Numbers: RP21-696-000.

Applicants: Horizon Pipeline Company, L.L.C.

Description: § 4(d) Rate Filing: Negotiated Rate Agreement Filing—Natural Gas Pipeline Company of America LLC to be effective 4/1/2021.

Filed Date: 4/1/21.

Accession Number: 20210401-5002.

Comments Due: 5 p.m. ET 4/13/21.

Docket Numbers: RP21-698-000.

Applicants: Columbia Gas Transmission, LLC.

Description: § 4(d) Rate Filing: April 21 Neg Rate Agree Amends to be effective 4/1/2021.

Filed Date: 4/1/21.

Accession Number: 20210401-5015.

Comments Due: 5 p.m. ET 4/13/21.

Docket Numbers: RP21-699-000.

Applicants: Columbia Gas Transmission, LLC.

Description: § 4(d) Rate Filing: Chevron Noble NRA to be effective 4/1/2021.

Filed Date: 4/1/21.

Accession Number: 20210401-5020.

Comments Due: 5 p.m. ET 4/13/21.

Docket Numbers: RP21-700-000.

Applicants: WBI Energy Transmission, Inc.

Description: § 4(d) Rate Filing: 2021 Non-Conforming Negotiated Rate SA—Kentex IT-839 to be effective 4/1/2021.

Filed Date: 4/1/21.

Accession Number: 20210401-5021.

Comments Due: 5 p.m. ET 4/13/21.

Docket Numbers: RP21-701-000.

Applicants: Natural Gas Pipeline Company of America.

Description: § 4(d) Rate Filing: Negotiated Rate Agreements Filing—Citadel Energy Marketing to be effective 4/1/2021.

Filed Date: 4/1/21.

Accession Number: 20210401-5024.

Comments Due: 5 p.m. ET 4/13/21.

Docket Numbers: RP21-702-000.

Applicants: Natural Gas Pipeline Company of America.

Description: § 4(d) Rate Filing: Negotiated Rate Agreements Filing—Sempra Gas & Power Marketing LLC to be effective 4/1/2021.

Filed Date: 4/1/21.

Accession Number: 20210401-5026.

Comments Due: 5 p.m. ET 4/13/21.

Docket Numbers: RP21-703-000.

Applicants: Gulf South Pipeline Company, LLC.

Description: § 4(d) Rate Filing: Termination of FPL 52990 to be effective 4/1/2021.

Filed Date: 4/1/21.

Accession Number: 20210401-5028.

Comments Due: 5 p.m. ET 4/13/21.

Docket Numbers: RP21-704-000.

Applicants: Gulf South Pipeline Company, LLC.

Description: § 4(d) Rate Filing: Cap Rel Neg Rate Agmt (Constellation 53883 to Exelon 53921) to be effective 4/1/2021.

Filed Date: 4/1/21.

Accession Number: 20210401-5032.

Comments Due: 5 p.m. ET 4/13/21.

Docket Numbers: RP21-705-000.

Applicants: Gulf South Pipeline Company, LLC.

Description: § 4(d) Rate Filing: Cap Rel Neg Rate Agmt (Methanex 42805 to Tenaska 53955) to be effective 4/1/2021.

Filed Date: 4/1/21.

Accession Number: 20210401-5033.

Comments Due: 5 p.m. ET 4/13/21.

Docket Numbers: RP21-706-000.

Applicants: Equitrans, L.P.

Description: § 4(d) Rate Filing: Negotiated Rate Capacity Release Agreements—4/1/2021 to be effective 4/1/2021.

Filed Date: 4/1/21.

Accession Number: 20210401-5035.

Comments Due: 5 p.m. ET 4/13/21.

Docket Numbers: RP21-707-000.

Applicants: KPC Pipeline, LLC.

Description: § 4(d) Rate Filing: Negotiated Rate Filing to be effective 4/1/2021.

Filed Date: 4/1/21.

Accession Number: 20210401-5039.

Comments Due: 5 p.m. ET 4/13/21.

Docket Numbers: RP21-708-000.

Applicants: ANR Pipeline Company.

Description: § 4(d) Rate Filing: ANR April 1 Neg. Rate Agreements to be effective 4/1/2021.

Filed Date: 4/1/21.

Accession Number: 20210401-5056.

Comments Due: 5 p.m. ET 4/13/21.

Docket Numbers: RP21-709-000.

Applicants: Algonquin Gas Transmission, LLC.

Description: § 4(d) Rate Filing: Negotiated Rates—Various Releases eff 4-1-2021 to be effective 4/1/2021.

Filed Date: 4/1/21.

Accession Number: 20210401-5059.

Comments Due: 5 p.m. ET 4/13/21.

Docket Numbers: RP21-710-000.

Applicants: Enable Gas Transmission, LLC.

Description: § 4(d) Rate Filing: Negotiated Rate Filing—CERC dba Arkansas Gas 4.1.2021 to be effective 4/1/2021.

Filed Date: 4/1/21.

Accession Number: 20210401-5079.

Comments Due: 5 p.m. ET 4/13/21.

Docket Numbers: RP21-711-000.

Applicants: Enable Gas Transmission, LLC.

Description: § 4(d) Rate Filing: Negotiated Rate Filing—CERC dba Oklahoma Gas 4.1.2021 to be effective 4/1/2021.

Filed Date: 4/1/21.

Accession Number: 20210401-5084.

Comments Due: 5 p.m. ET 4/13/21.

Docket Numbers: RP21-712-000.

Applicants: Enable Gas Transmission, LLC.

Description: § 4(d) Rate Filing: Negotiated Rate Filing—CERC dba Louisiana Gas 4.1.2021 to be effective 4/1/2021.

Filed Date: 4/1/21.

Accession Number: 20210401-5087.

Comments Due: 5 p.m. ET 4/13/21.

Docket Numbers: RP21-713-000.

Applicants: Enable Gas Transmission, LLC.

Description: § 4(d) Rate Filing: Negotiated Rate Filing—CERC dba Texas Gas Operations 4.1.2021 to be effective 4/1/2021.

Filed Date: 4/1/21.

Accession Number: 20210401-5135.

Comments Due: 5 p.m. ET 4/13/21.

Docket Numbers: RP21-714-000.

Applicants: Enable Gas Transmission, LLC.

Description: § 4(d) Rate Filing: Negotiated Rate Filing—Ovintiv Marketing 4.1.2021 to be effective 4/1/2021.

Filed Date: 4/1/21.

Accession Number: 20210401-5186.

Comments Due: 5 p.m. ET 4/13/21.

Docket Numbers: RP21-715-000.

Applicants: NEXUS Gas Transmission, LLC.

Description: § 4(d) Rate Filing: Negotiated Rates—Various Releases eff 04-01-2021 to be effective 4/1/2021.

Filed Date: 4/1/21.

Accession Number: 20210401-5197.

Comments Due: 5 p.m. ET 4/13/21.

Docket Numbers: RP21-716-000.

Applicants: Texas Eastern Transmission, LP.

Description: § 4(d) Rate Filing: Negotiated Rates—Various Releases eff 4-1-2021 to be effective 4/1/2021.

Filed Date: 4/1/21.

Accession Number: 20210401-5252.

Comments Due: 5 p.m. ET 4/13/21.

Docket Numbers: RP21-717-000.

Applicants: Enable Gas Transmission, LLC.

Description: § 4(d) Rate Filing: Negotiated Rate Filing—Tenaska Marketing Ventures 4.1.2021 to be effective 4/1/2021.

Filed Date: 4/1/21.

Accession Number: 20210401-5258.

Comments Due: 5 p.m. ET 4/13/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 4, 2021.
Nathaniel J. Davis, Sr.,
Deputy Secretary.

[FR Doc. 2021-07394 Filed 4-9-21; 8:45 am]

BILLING CODE 6717-01-P